DEPARTMENT OF THE TREASURY

Office of Foreign Assets Control

Designation Pursuant to Executive Order 13396 of February 7, 2006, “Blocking Property of Certain Persons Contributing to the Conflict in Côte d'Ivoire”

AGENCY: Office of Foreign Assets Control, Treasury.

ACTION: Notice.

SUMMARY: The Treasury Department's Office of Foreign Assets Control (“OFAC”) is publishing the name of five individuals whose property and interests in property are blocked pursuant to Executive Order 13396 of February 7, 2006, “Blocking Property of Certain Persons Contributing to the Conflict in Côte d'Ivoire” (the “Order”).

DATES: The designation by the Director of OFAC of the five individuals identified in this notice, pursuant to Executive Order 13396, is effective on January 6, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) via facsimile through a 24-hour fax-on demand service, tel.: (202) 622-0077.

Background

On February 7, 2006, the President issued Executive Order 13396 pursuant to, inter alia, the International Emergency Economic Powers Act (50 U.S.C. 1701 et seq.). In the Order, the President determined that the situation in or in relation to Côte d'Ivoire constitutes an unusual and extraordinary threat to the national security and foreign policy of the United States and declared a national emergency to deal with that threat. The President identified three individuals as subject to the economic sanctions in the Annex to the Order.

Section 1 of the Order blocks, with certain exceptions, all property and interests in property that are in, or hereafter come within, the United States or within the possession or control of United States persons, of the persons listed in the Annex to the Order, as well as those persons determined by the Secretary of the Treasury, after consultation with the Secretary of State, to satisfy any of the criteria set forth in subparagraphs (a)(ii)(A)-(a)(ii)(F) of Section 1.

On January 6, 2010, the Director of OFAC, after consultation with the Department of State, designated, pursuant to one or more of the criteria set forth in subparagraphs (a)(ii)(A)-(a)(ii)(F) of Section 1 of the Order, the following individuals whose property and interests in the property are blocked pursuant to the Order:

1. GBAGBO, Laurent (a.k.a. GBAGBO, Laurent Koudou), Abidjan, Cote d Ivoire; DOB 31 May 1945; POB Gagnoa, Cote d Ivoire (individual) [COTED]

2. GBAGBO, Simone (a.k.a. GBAGBO, Simone Ehivet), Abidjan, Cote d Ivoire; DOB 20 Jun 1949; POB Moossou, Grand-Bassam, Cote d Ivoire (individual) [COTED]

3. TAGRO, Desire (a.k.a. TAGRO, Assegnini Desire); DOB 27 Jan 1959; POB Issia, Cote d Ivoire (individual) [COTED]

4. N'GUESSAN, Pascal Affi (a.k.a. NGUESSAN, Affi); DOB 1953; POB Bongouanou, Cote d Ivoire (individual) [COTED]

5. DJEDJE, Alcide Ilahiri (a.k.a. DJEDJE, Ilahiri Alcide; a.k.a. ILAHIRI, Alcide Djedje), DOB 1956 (individual) [COTED]

Dated: January 6, 2010.
Adam J. Szubin,
Director, Office of Foreign Assets Control.

[FR Doc. 2011-525 Filed 1-11-11; 8:45 am]

BILLING CODE 4811-45-P